Title 3—

The President

Notice of January 12, 2026

Continuation of the National Emergencies With Respect to the Southern Border of the United States and Cartels and Other Transnational Organizations

On January 20, 2025, by Proclamation 10886, I declared a national emergency pursuant to the National Emergencies Act (50 U.S.C. 1601 et seq.) (NEA) with respect to the situation at the southern border of the United States, because the southern border is overrun by cartels, criminal gangs, known terrorists, human traffickers, smugglers, unvetted military-age males from foreign adversaries, and illicit narcotics that harm Americans.

Also on January 20, 2025, by Executive Order 14157, I declared a national emergency pursuant to the International Emergency Economic Powers Act (50 U.S.C. 1701 et seq.) (IEEPA) to deal with the unusual and extraordinary threat to the national security, foreign policy, and economy of the United States involving cartels and other transnational organizations.

On February 1, 2025, by Executive Order 14193, I declared a national emergency or expanded the scope of the national emergency declared in Proclamation 10886, invoking IEEPA and the NEA, to deal with the unusual and extraordinary threat to the national security and foreign policy of the United States involving Canada's failure to do more to address drug and human traffickers, criminals at large, and the flood of illicit drugs into the United States.

Also on February 1, 2025, by Executive Order 14194, I declared a national emergency or expanded the scope of the national emergency declared in Proclamation 10886, invoking IEEPA and the NEA, to deal with the unusual and extraordinary threat to the national security, foreign policy, and economy of the United States involving Mexico's failure to address the sustained influx of illegal aliens and illicit drugs into the United States and Mexico's failure to arrest, seize, detain, or otherwise intercept drug and human traffickers, criminals at large, and illicit drugs.

Also on February 1, 2025, by Executive Order 14195, I declared a national emergency or expanded the scope of the national emergency declared in Proclamation 10886, invoking IEEPA and the NEA, to deal with the unusual and extraordinary threat to the national security, foreign policy, and economy of the United States involving the failure of the People's Republic of China government to arrest, seize, detain, or otherwise intercept chemical precursor suppliers, money launderers, other transnational criminal organizations, criminals at large, and drugs.

The circumstances related to these emergencies continue to pose unusual and extraordinary threats to the national security, foreign policy, or economy of the United States. For this reason, the national emergencies declared or expanded in Proclamation 10886 of January 20, 2025, Executive Order 14157 of January 20, 2025, Executive Order 14193 of February 1, 2025, Executive Order 14194 of February 1, 2025, and Executive Order 14195 of February 1, 2025, must continue in effect beyond their applicable anniversary date(s). Therefore, in accordance with section 202(d) of the NEA (50 U.S.C. 1622(d)), I am continuing for 1 year the national emergencies declared or expanded in Proclamation 10886, Executive Order 14157, Executive Order 14193, Executive Order 14194, and Executive Order 14195.

This notice shall be published in the Federal Register and transmitted to the Congress.

THE WHITE HOUSE,

January 12, 2026.

[FR Doc. 2026-00731

Filed 1-13-26; 2:00 pm]

Billing code 3395-F4-P